DEPARTMENT OF THE INTERIOR

Minerals Management Service

Outer Continental Shelf (OCS), Gulf of Mexico OCS Region, Mid-Atlantic Proposed Oil and Gas Lease Sale 220

AGENCY: Minerals Management Service (MMS), Interior.

ACTION: Call for Information and Interest/Nominations (Call) and Notice of Intent (NOI) to prepare an Environmental Impact Statement (EIS).

SUMMARY: This Call for Information and Interest/Nominations (hereinafter referred to as “Call”) and the NOI are the initial information-gathering steps in a process that incorporates planning and analysis for proposed OCS Oil and Gas Lease Sale 220 in the Mid-Atlantic Planning Area in the area offshore the Commonwealth of Virginia. The program area is that subarea of the Mid-Atlantic Planning Area offshore Virginia, identified in the OCS Oil and Gas Leasing Program, 2007-2012, that may be offered in proposed Sale 220. Readers are cautioned that this announcement is not a commitment to hold a lease sale but rather a continuation of the information-gathering and evaluation process.

Simultaneously with this Call, the MMS is giving notice of its intent to prepare an EIS for Sale 220 in the Mid-Atlantic Planning Area, scheduled for 2011. The EIS analysis will focus on the potential environmental effects of oil and gas exploration, development, and production in the proposed sale area and its vicinity. This NOI also serves to announce the initiation of the scoping process for this EIS. The MMS will consider comments received in response to this NOI and Call in determining the proposed sale area and the scope of the EIS. The Department of the Interior (DOI) is also inviting other Federal, State, Tribal, and local governments to consider becoming cooperating agencies in the preparation of the EIS.

DATES: Comments on the Call must be received no later than December 29, 2008. Submittals should be labeled “Comments on the Call for Information and Interest/Nominations for Proposed Sale 220.” Comments on the NOI also must be received no later than December 29, 2008. Submittals should be labeled “Comments on the Notice of Intent for Proposed Sale 220.” Scoping meetings to obtain additional comments and information regarding the scope of the EIS will be held in appropriate locations and will be announced in the Federal Register at a later date; an additional scoping comment period will be announced at that time.

FOR FURTHER INFORMATION CONTACT: For information on the Call, please contact Mr. Carrol Williams, Sales and Support Unit Supervisor, Minerals Management Service, Gulf of Mexico OCS Region, 1201 Elmwood Park Boulevard, New Orleans, Louisiana 70123-2394, telephone (504) 736-2803. For information on the NOI, you may contact Mr. Gary Goeke, NEPA/CZM Coordination Unit Supervisor, Minerals Management Service, Gulf of Mexico OCS Region, 1201 Elmwood Park Boulevard, New Orleans, Louisiana 70123-2394, telephone (504) 736-3233.

Supplementary Information on the Call: The final EIS will serve as the National Environmental Policy Act (NEPA) analysis for the Mid-Atlantic Planning Area Sale 220. The MMS will prepare additional Coastal Zone Management Act (CZMA) Consistency Determination (CD), and Outer Continental Shelf Lands Act (OCSLA) documents, as appropriate.

The MMS is sponsoring a workshop on the environmental research needs in support of potential Virginia offshore oil and gas activities to be held Dec. 3-4, 2008, in Williamsburg, Virginia. The focus of the workshop will be on the existing scientific knowledge base along the Virginia Coast and the information gaps that need to be addressed should a lease sale for oil and gas activities be held offshore Virginia. Additionally, the following three new studies are being funded by the MMS: Oil and Gas Infrastructure in the Atlantic Region, Inventory and Analysis of Archaeological Site Occurrence on the Atlantic OCS, and Mid-Atlantic Ocean Model Calculations.

Call for Information and Interest/Nominations

1. Authority: This Call is published pursuant to the OCSLA (43 U.S.C. 1331-1356, as amended) and the regulations issued thereunder (30 CFR part 256); and in accordance with the OCS Oil and Gas Leasing Program, 2007-2012.

2. Purpose of Call: The purpose of the Call is to gather information for proposed OCS Lease Sale 220 in the Mid-Atlantic Planning Area offshore Virginia, tentatively scheduled in 2011.

Information on oil and gas leasing, exploration, and development and production within the program area offshore Virginia are sought from all interested parties. This early planning and consultation step is important for ensuring that all interests and concerns are communicated to the DOI for its consideration in future decisions in the leasing process pursuant to the OCSLA and regulations at 30 CFR part 256. This Call/NOI is being issued in accordance with the OCS Oil and Gas Leasing Program, 2007-2012.

This Call is to gather information and does not indicate a preliminary decision to lease in the area described below. Final decision and delineation of the area for possible leasing will be made at a later date and only if there is compliance with applicable laws including all requirements of the OCSLA and NEPA using established departmental procedures. The MMS is aware of Virginia's current Energy Policy, which states: “* * * The policy of the Commonwealth shall further support the inclusion of the Atlantic Planning Areas in the Minerals Management Service's draft environmental impact statement with respect to natural gas exploration 50 miles or more off the Atlantic shoreline.” The OCSLA does not include provisions that would allow gas-only leasing. The only potential avenue to allow for the exploration of gas resources is through the leasing process described in section 8 and section 19 of the OCSLA. This Call/NOI is the first step in the section 19 process.

3. Description of Area: The area that is the subject of this Call is located in the Mid-Atlantic Planning Area offshore Virginia. The “program area” is that offshore Virginia subarea of the larger Mid-Atlantic Planning Area identified in OCS Oil and Gas Leasing Program, 2007-2012. The “program area” extends offshore from about 50 statute miles to approximately 183 statute miles (or 159 nautical miles), in water depths from approximately 40 meters to 3,500 meters. This area consists of approximately 593 whole and partial blocks encompassing about 2.9 million acres. A page-size map of the program area considered for leasing accompanies this Call. Official Protraction Diagrams (OPDs) are available at no charge at the Web site: http://www.mms.gov/ld/atlantic.htm.

4. Instructions on Call: Information must be received no later than 45 days following publication of this Call in the Federal Register in envelopes labeled “Comments on the Call for Information and Interest/Nominations for Proposed Sale 220,” submitted to the Minerals Management Service, Gulf of Mexico OCS Region, Leasing Activities Section, (Attention: Mr. Carrol Williams), 1201 Elmwood Park Boulevard (Mail Stop 5422), New Orleans, Louisiana 70123-2394. You may also submit comments on the Call via e-mail to carrol.williams@mms.gov. You should include “Comments on the Call for Proposed Sale 220” in the subject line of your message.

Please submit e-mail comments as an ASCII file avoiding the use of special characters and any form of encryption. Please also include your name and return address in your e-mail message.

The Call for Information and Interest/Nominations Map delineates the Call area identified by MMS as having potential for the discovery of accumulations of oil and gas. Respondents are requested to indicate nominations of areas to be considered for leasing and comments on any or all of the Federal acreage within the boundaries of the Call area. Although individual nominations are considered privileged and proprietary information, the names of persons or entities indicating interest or submitting comments will be of public record.

Nominations must be submitted using the large-scale Call for Information and Interest/Nominations Map located at: http://www.gomr.mms.gov/homepg/lsesale/220/matl220.html by outlining the area of interest along block lines. Respondents should rank the portion of the area in which they have nominated according to priority of interest; for example, priority 1 (high), or 2 (medium). Blocks nominated that do not indicate priorities will be considered priority 3 (low). Respondents must be specific in indicating blocks by priority, and be prepared to discuss with MMS their priority of interest regarding the nominated area. The telephone number and name of a person to contact in the nominator's organization for additional information should be included in the response. The Gulf of Mexico OCS Regional Office may contact this person to set up a mutually agreeable time and place for a meeting to more fully review the company's nominations. Respondents may also submit a detailed list of blocks nominated by Official Protraction Diagram and Leasing Map designations to ensure correct interpretation of their nominations.

Comments are sought from all interested parties about particular environmental, biological, archaeological, socioeconomic, and geological (including natural hazard areas) conditions or potential conflicts, or other information that might bear upon the potential leasing, exploration, and development of the program area and vicinity. Comments are also sought on possible conflicts between future OCS oil and gas activities that may result from the proposed sale and the enforceable policies of an approved local district coastal management plan. These comments should identify specific policies of concern, the nature of the potential conflict foreseen, and steps that MMS could take to avoid or mitigate the potential conflict. Comments may be in terms of broad area or restricted to particular blocks or areas of concern. Those submitting comments are requested to list block numbers or outline the subject area on the standard Call for Information and Interest/Nominations Map.

Our practice is to make comments, including names and addresses of respondents, available for public review during regular business hours. Individual respondents may request that we withhold their address from the rulemaking record, which we will honor to the extent allowable by law. There also may be circumstances in which we would withhold a respondent's identity, as allowable by law. If you wish us to withhold your name or address, you must state this prominently at the beginning of your comment. However, we will not consider anonymous comments. We will make all submissions from organizations or businesses, and from individuals identifying themselves as representatives or officials of organizations or businesses, available for public inspection in their entirety.

5. Use of Call Information: Information submitted in response to this Call will be used for several purposes. Responses will be used to:

• Identify the proposed sale area;

• Help identify areas of potential oil and gas development;

• Identify potential environmental effects and potential use conflicts;

• Assist in the scoping process for the EIS;

• Develop possible alternatives to the proposed action;

• Develop lease terms and conditions/mitigating measures; and

• Identify potential conflicts between oil and gas activities and coastal management plans.

6. Tentative Schedule: The following is a list of tentative milestone dates that apply to Sale 220 covered by this Call:

Call/NOI published | November 2008
Comments due on Call/NOI | December 2008/January 2009
Area Identification of the Area to be Included in the EIS | early 2009
Notice of Scoping Meetings and Additional Scoping Comment Period | Spring 2009
Draft EIS available | 2010
Public Hearings | 2010
Final EIS available | 2011
Consistency Determination/Proposed Notice of Sale issued | 2011
Governor's Comments due | 2011
Final Notice of Sale published | 2011
Sale held | 2011

Supplemental Information on Notice of Intent To Prepare an EIS

1. Authority: The NOI is published pursuant to the regulations (40 CFR 1501.7) implementing the provisions of the National Environmental Policy Act of 1969, as amended (42 U.S.C. 4321 et seq. (1988)) (NEPA).

2. Purpose of Notice of Intent: Pursuant to the regulations (40 CFR 1501.7) implementing the procedural provisions of NEPA, the MMS is announcing its intent to prepare an EIS for proposed oil and gas lease Sale 220 tentatively scheduled for 2011 in the Mid-Atlantic Planning Area offshore Virginia, no closer than 50 statute miles off the coast of the Commonwealth of Virginia. The proposed action is to offer for lease all of the blocks in this Mid-Atlantic Planning Area offshore Virginia. The EIS analysis will focus on the potential environmental effects on biological, physical, and socioeconomic environmental resources from oil and gas exploration, development, and production activities in the Mid-Atlantic OCS. This NOI also serves to announce the initiation of the scoping process for this EIS. Throughout the scoping process, Federal, State, Tribal, and local governments and other interested parties aid MMS in determining the significant issues, reasonable alternatives, and potential mitigating measures to be analyzed in the EIS and the possible need for additional information. Alternatives may include, at a minimum, the proposed action, taking no action, or implementing appropriate restrictions on oil and gas activities. These and any additional alternatives developed through scoping and the NEPA evaluation will be considered in the decision-making process.

3. Instructions on the Notice of Intent: Federal, State, Tribal, and local governments and other interested parties are requested to provide comments related to the scope of the EIS, including significant issues that should be addressed, the types of biologic, physical or socioeconomic resources that should be considered, the types of activities that produce impacts, reasonable alternatives, potential mitigation measures, and other relevant information that is available and should be considered. You may mail comments to the Minerals Management Service, Gulf of Mexico OCS Region (Attention: Mr. Gary Goeke), 1201 Elmwood Park Boulevard, New Orleans, LA 70123-2394. Comments should be enclosed in an envelope clearly labeled “Comments on the NOI for Proposed Sale 220.” You may also submit comments via e-mail to Sale220@mms.gov. Please include “Attn: Proposed Sale 220 NOI” in the subject line, and your name and return address in your scoping comment. If you do not receive an auto-confirmation from the system that we have received your e-mail message, please contact us at (504) 736-3233. Lastly, you may hand-deliver comments to the address above. Comments are due no later than December 29, 2008.

Our practice is to make comments, including names and addresses of respondents, available for public review during regular business hours. Individual respondents may request that we withhold their address from the public record, which we will honor to the extent allowable by law. There may also be circumstances in which we would withhold a respondent's identity, as allowable by law. If you wish us to withhold your name and/or address, you must state this prominently at the beginning of your comment. We will not consider anonymous comments. We will make all submissions from organizations or businesses, and from individuals identifying themselves as representatives or officials of organizations or businesses, available for public inspection in their entirety. Scoping meetings to obtain additional comments and information regarding the scope of the EIS will be held in appropriate locations and will be announced at a later date. An additional comment period will be announced at that time.

A Notice of Availability of the draft EIS for public review and comment will be announced in the Federal Register by the MMS and the Environmental Protection Agency; on the MMS, Gulf of Mexico OCS Region Web site; and, in the local media. Public hearings will be held in the local area following release of the draft EIS on dates and at locations to be determined.

4. Cooperating Agencies: The DOI policy is to invite other Federal agencies, and State, Tribal, and local governments to consider becoming cooperating agencies in the preparation of an EIS. Under the Council of Environmental Quality (CEQ) regulations, qualified agencies and governments are those with “jurisdiction by law or special expertise.” Potential cooperating agencies should consider their authority and capacity to assume the responsibilities of a cooperating agency. Cooperating agency status neither enlarges nor diminishes the final decision-making authority of any agency involved in the NEPA process. The MMS invites qualified government entities to inquire about cooperating agency status for this lease sale EIS. Upon request, the MMS will provide qualified cooperating agencies with a written summary of ground rules for cooperating agencies, including time schedules and critical action dates, milestones, responsibilities, scope and detail of cooperating agencies' contributions, and handling of predecisional information. The MMS anticipates this summary will form the basis for a Memorandum of Understanding between the MMS and each cooperating agency. You should also consider the CEQ's “Factors for Determining Cooperating Agency Status.” This document is available on the CEQ Web site at: http://ceq.eh.doe.gov/nepa/regs/cooperating/cooperatingagencymemofactors.html.

Even if your agency is not a cooperating agency you will continue to have opportunities to provide information and comments to MMS during the normal public input phases of the NEPA/EIS process.

5. Background Information: The Mid-Atlantic Planning Area lies offshore the middle Atlantic States and extends from Delaware to North Carolina. The program area lies in the Mid-Atlantic Planning Area offshore Virginia at the southern end of a basin in a geologic province called the Baltimore Trough. The area is believed to be gas-prone. The program area consists of 593 whole and partial OCS blocks encompassing approximately 2.9 million acres. Water depths in the program area range from 40 meters to 3,500 meters. The program area is pie-slice-shaped with the apex pointed to the east. It is everywhere greater than 50 statute miles from the boundary between the Commonwealth of Virginia and Federal waters, and extends seaward to 183 statute miles.

In spending bills since 1983, Congress has banned DOI expenditures in support of any petroleum leasing or development activities in the Atlantic planning areas. In June 1990 President George H.W. Bush reinforced the ban by issuing an executive order that more explicitly blocked Atlantic drilling for a period of 10 years. On June 12, 1998, President William J. Clinton withdrew these areas from leasing through June 30, 2012. On July 14, 2008, President George W. Bush announced a modification of the Presidential Withdrawal and on September 30, 2008, the Congress let expire the previous Department of the Interior Appropriations measures that had imposed an Atlantic drilling ban that lasted a total of 25 years.

The last lease sale in the Mid-Atlantic Planning Area was Sale 76 held on April 26, 1983. In the period between 1976 and 1983 when lease sales were conducted in the Mid-Atlantic Area, including the offshore Virginia program area, a total of 32 exploration wells were drilled resulting in no commercial hydrocarbon discoveries. One OCS block was leased off of the Commonwealth of Virginia in this period but was never drilled. Based on the 2006 National Assessment, we estimate the mean Undiscovered Technically Recoverable Resources contained in the Sale 220 area to be 130 million barrels of oil and 1,140 billion cubic feet of gas.

The MMS has developed an overview of the leasing process titled Leasing Oil and Natural Gas Resources which can be found at the following link: http://www.mms.gov/ld/PDFs/GreenBook-LeasingDocument.pdf, or you may request a hard copy by contacting the MMS Leasing Division, at 703-787-1215.

If the decision is made to conduct the sale and leases are acquired, a company would then need to submit an exploration plan (EP) to MMS proposing to drill wells on specific sites. Upon acquiring a lease, any lessee who wants to drill an exploration well must submit an extensive EP application containing an array of environmental, monitoring, and mitigation information that must demonstrate to MMS that the proposed EP activities “do[es] not cause undue or serious harm or damage to the human, marine, or coastal environment. See 30 CFR 250.202, 250.212-228. The MMS would review the EP to determine any potential impacts on the environment and ensure engineering safety. Affected States would also review the EP and determine its consistency with the State's coastal zone program. After all reviews, MMS would approve the EP, if acceptable. Other Federal agencies also review and issue permits for aspects of the activities. For example the Environmental Protection Agency issues the water discharge permits. Before any development or production activities can begin, a development plan must be submitted to MMS for review and approval. Again, the proposed development plan must contain a full array of environmental, monitoring, and mitigation information that must demonstrate to MMS that the proposed activities do not harm the environment. See 30 CFR 250.202, 250.241-262. Specific environmental, archaeological, and biological information must be submitted in support of the plans. The plans and supporting information are evaluated for seafloor or drilling hazards; air and water quality impacts; hydrocarbon resource conservation; appropriate mitigation of potential impacts; and compliance with NEPA, MMS operating regulations, and other requirements. Other Federal agencies and the designated coastal zone management agencies in Atlantic Coast states may take part in the review process.

BILLING CODE 4310-MR-P

Dated: November 6, 2008.
Randall B. Luthi,
Director, Minerals Management Service.

[FR Doc. E8-26995 Filed 11-12-08; 8:45 am]

BILLING CODE 4310-MR-C